ENVIRONMENTAL PROTECTION AGENCY

[EPA-HQ-OW-2004-0014; FRL-8056-3]

Guidelines Establishing Test Procedures for the Analysis of Pollutants Under the Clean Water Act; Notice of Data Availability

AGENCY: Environmental Protection Agency (EPA).

ACTION: Notice of Data Availability.

SUMMARY: On August 16, 2005, EPA proposed to approve a number of new analytical methods for measuring E. coli and other microbiological pollutants in wastewater and sewage sludge. Today's notice announces the availability of new data supporting approval of an additional E. coli method. EPA is soliciting comment only on the data and method described in today's notice.

DATES: Comments must be received on or before May 11, 2006.

ADDRESSES: Submit your comments, identified by Docket ID No. EPA-HQ-2004-0014, by one of the following methods:

• http://www.regulations.gov: Follow the on-line instructions for submitting comments.

• E-mail: OW-docket@epamail.epa.gov Attention Docket ID No. OW-2004-0014

• Mail: Water Docket, Environmental Protection Agency, Mailcode: 4101T, 1200 Pennsylvania Ave., NW., Washington, DC 2046.

• Hand Delivery: EPA Water Center, EPA West Building, Room B102, 1301 Constitution Avenue NW., Washington, DC, Attention Docket ID No. OW-2004-0014. Such deliveries are only accepted during the Docket's normal hours of operation, and special arrangements should be made for deliveries of boxed information.

Instructions: Direct your comments to Docket ID No. EPA-HQ-OW-2004-0014. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in http://www.regulations.gov or in hard copy at the Water Docket, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: Robin K. Oshiro, Office of Science and Technology, Office of Water (4303-T), Environmental Protection Agency, 1200 Pennsylvania Avenue, NW.; Washington, DC 20460; telephone number: 202-566-1075; fax number: 202-566-1053; e-mail address: Oshiro.robin@epa.gov.

SUPPLEMENTARY INFORMATION:

I. General Information

A. Does This Action Apply to Me?

EPA Regions, as well as States, Territories and Tribes authorized to implement the National Pollutant Discharge Elimination System (NPDES) program, issue permits that must comply with the technology-based and water quality-based requirements of the Clean Water Act (CWA). In doing so, NPDES permitting authorities, including States, Territories, and Tribes, make a number of determinations. These include the selection of pollutants to be measured, monitoring requirements, permit conditions (e.g., triggers), and, in many cases, limits in permits. EPA's NPDES regulations (applicable to all authorized State NPDES programs) require monitoring results to be reported at the intervals specified in the permit, but in no case less frequently than once per year. Monitoring results must be conducted according to test procedures approved under 40 CFR part 136 [see 40 CFR 122.41(j)(4), 122.44(i)(1)(iv) and 122.44(i)(2)]. Therefore, entities with NPDES permits may potentially be regulated by rulemaking actions relatd to the information announced in this notice. In addition, when an authorized State, Territory, or Tribe certifies Federal licenses under CWA section 401, thye must use the standardized analysis and sampling procedures. Categories and entities that could potentially be regulated by EPA's proposal in August 2005 include:

Category | Examples of potentially regulated entities
Federal, State, Territorial, and Indian Tribal Governments | Federal, State, Territorial, and Tribal entities authorized to administer the NPDES permitting program; Federal, State, Territorial, and Tribal entities providing certification under Clean Water Act section 401.
Industry | Facilities that must conduct monitoring to comply with NPDES permits.
Municipalities | POTWs that must conduct monitoring to comply with NPDES permits.

This table is not intended to be exhaustive, but rather provides a guide for readers regarding entities likely to be regulated by the earlier proposal. This table lists types of entities that EPA is now aware could potentially be regulated. Other types of entities not listed in the table could also be regulated. To determine whether your facility is regulated by this action, you should carefully examine the applicability language at 40 CFR 122.1, (NPDES purpose and scope), 40 CFR 136.1 (NPDES permits and CWA), 40 CFR 503.32 (Sewage sludge and pathogens). If you have questions regarding the applicability of this action to a particular entity, consult the appropriate person listed in the preceding FOR FURTHER INFORMATION CONTACT section.

B. What Should I Consider as I Prepare My Comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Summary of New Information and Request for Comment

On August 16, 2005, EPA proposed to approve a number of new analytical methods for measuring E. coli and other microbiological pollutants in wastewater and sewage sludge. In that proposal, EPA solicited comment on the proposed methods and also solicited information about additional methods. During the comment period, EPA received data and information on an additional E. coli method, m-ColiBlue24®, in wastewater (comments OW-2004-0014-51, and 53). In today's action, EPA is announcing the availability of this new information that could support approval of m-ColiBlue24® for monitoring E. coli for use in wastewater. EPA has added these data to the docket as document number OW-2004-0014-60, and will consider it together with the data received during the comment period in its evaluation of methods to be approved in a final rule. Today's notice solicits comment on these data and information.

EPA is soliciting comment only on the additional information and data discussed in this notice. EPA is not requesting comment on other methods or on other aspects of the August 16, 2005, proposal.

Dated: March 30, 2006.
Benjamin H. Grumbles,
Assistant Administrator, Office of Water.

[FR Doc. E6-5325 Filed 4-10-06; 8:45 am]

BILLING CODE 6560-50-P